DEPARTMENT OF EDUCATION

Applications for New Awards; Technology and Media Services for Individuals With Disabilities—Stepping-Up Technology Implementation

Correction

In notice document 2012-12278 appearing on pages 29989 through 29995 in the issue of Monday, May 21, 2012 make the following correction:

On page 29989, in the second column, under the heading “Deadline for Intergovernmental Review:”, “September 3, 2012” should read “September 4, 2012”.

[FR Doc. C1-2012-12278 Filed 5-25-12; 8:45 am]

BILLING CODE 1505-01-D